SOCIAL SECURITY ADMINISTRATION

Privacy Act of 1974 as Amended; Computer Matching Program (SSA/Railroad Retirement Board (RRB) Match Number 1006)

AGENCY: Social Security Administration (SSA).

ACTION: Notice of the renewal of an existing computer matching program, which is scheduled to expire on September 29, 2003.

SUMMARY: In accordance with the provisions of the Privacy Act, as amended, this notice announces the renewal of an existing computer matching program that SSA is currently conducting with the RRB.

DATES: SSA will file a report of the subject matching program with the Committee on Governmental Affairs of the Senate, the Committee on Government Reform of the House of Representatives, and the Office of Information and Regulatory Affairs, Office of Management and Budget (OMB). The renewal of the matching program will be effective as indicated below.

ADDRESSES: Interested parties may comment on this notice by either telefax to (410) 965-8582 or writing to the Associate Commissioner, Office of Income Security Programs, 245 Altmeyer Building, 6401 Security Boulevard, Baltimore, MD 21235-6401. All comments received will be available for public inspection at this address.

FOR FURTHER INFORMATION CONTACT: The Associate Commissioner for Income Security Programs as shown above.

SUPPLEMENTARY INFORMATION:

A. General

The Computer Matching and Privacy Protection Act of 1988 (Public Law (Pub. L.) 100-503), amended the Privacy Act (5 U.S.C. 552a) by describing the manner in which computer matching involving Federal agencies could be performed and adding certain protections for individuals applying for and receiving Federal benefits. Section 7201 of the Omnibus Budget Reconciliation Act of 1990 (Pub. L. 101-508) further amended the Privacy Act regarding protections for such individuals.

The Privacy Act, as amended, regulates the use of computer matching by Federal agencies when records in a system of records are matched with other Federal, State, or local government records. It requires Federal agencies involved in computer matching programs to:

(1) Negotiate written agreements with the other agency or agencies participating in the matching programs;

(2) Obtain the Data Integrity Boards' approval of the match agreements;

(3) Publish notice of the computer matching program in the Federal Register;

(4) Furnish detailed reports about matching programs to Congress and OMB;

(5) Notify applicants and beneficiaries that their records are subject to matching; and

(6) Verify match findings before reducing, suspending, terminating, or denying an individual's benefits or payments.

B. SSA Computer Matches Subject to the Privacy Act

We have taken action to ensure that all of SSA's computer matching programs comply with the requirements of the Privacy Act, as amended.

Dated: July 29, 2003.
Martin H. Gerry,
Deputy Commissioner for Disability and Income Security Programs.

Notice of Computer Matching Program, Social Security Administration (SSA) with the Railroad Retirement Board (RRB)

A. Participating Agencies

SSA and RRB

B. Purpose of the Matching Program

The purpose of this agreement is to establish the conditions under which RRB agrees to disclose RRB annuity payment data to the Social Security Administration through a computer matching program. This disclosure will provide SSA with information necessary to verify Supplemental Security Income (SSI) program and Special Veterans Benefits (SVB) eligibility and benefit payment amounts. It also helps to ensure the correct recording on the Supplemental Security Income Record and Special Veterans Benefit (SSR) of railroad annuity amounts paid to SSI and SVB recipients by RRB.

C. Authority for Conducting the Matching Program

The legal authority for the SSI portion of this matching program is contained in sections 1631(e)(1)(A) and (B) and § 1631(f) of the Social Security Act (“Act”), (42 U.S.C. 1383 § (e) (1) (A) and (B) and 1383 (f)). The legal authority for the SVB portion of this matching program is contained in section 806(b) of the Act, (42 U.S.C. 1006 (b)).

D. Categories of Records and Individuals Covered by the Matching Program

On the basis of certain identifying information as provided by SSA to RRB, RRB will provide SSA with electronic files containing annuity payment data from RRB's system of records, RRB-22 Railroad Retirement, Survivor, and Pensioner Benefits System, entitled Checkwriting Integrated Computer Operation (CHICO) Benefit Payment Master. SSA will then match the RRB data with data maintained in the SSR, SSA/OSR, 60-0103 system of records. SVB data also resides on the SSR.

E. Inclusive Dates of the Match

The matching program shall become effective no sooner than 40 days after notice for the program is sent to Congress and OMB, or 30 days after publication of this notice in the Federal Register, whichever date is later. The matching program will continue for 18 months from the effective date and may be extended for an additional 12 months thereafter, if certain conditions are met.

[FR Doc. 03-20075 Filed 8-6-03; 8:45 am]

BILLING CODE 4191-02-P